OFFICE OF SPECIAL COUNSEL

5 CFR Part 1800

Correction to Statutory Citation

AGENCY: Office of Special Counsel

ACTION: Final Rule; Technical Amendment

SUMMARY: The Office of Special Counsel (OSC) is correcting a statutory citation in its regulation on filing complaints of prohibited personnel practices or other prohibited activity at 5 CFR 1800.1.

DATES: This rule is effective on December 24, 2002.

FOR FURTHER INFORMATION CONTACT: Kathryn Stackhouse, Planning and Advice Division, by telephone at (202) 653-8971, or by fax at (202) 653-5161.

SUPPLEMENTARY INFORMATION: This action is directed to the public in general, and to current and former Federal employees and applicants for Federal employment in particular, who may want to allege a prohibited personnel practice or other violation of civil service law, rule, or regulation by a Federal agency.

OSC is correcting an erroneous statutory citation to federal merit system principles in its regulation on filing complaints of prohibited personnel practices at 5 C.F.R. 1800.1(a)(12). The citation in the current regulation refers to 5 U.S.C. 2302(b)(1). This citation, however, is incorrect, and should read 5 U.S.C. 2301(b).

This action is taken under the Special Counsel's authority, at 5 U.S.C. 1212(e), to publish regulations in the Federal Register. Under the Administrative Procedure Act, at 5 U.S.C. 553(b)(3)(B), statutory procedures for agency rulemaking do not apply “when the agency for good cause finds (and incorporates the finding and a brief statement of reasons therefor in the rules issued) that notice and public procedure thereon are impracticable, unnecessary, or contrary to the public interest.” OSC finds that such notice and public procedure are unnecessary and contrary to the public interest, on the grounds that: (1) this amendment is technical and non-substantive; and (2) the public benefits from early correction of an incorrect statutory citation.

OSC is submitting this final rule to Congress and the General Accounting Office pursuant to the Congressional Review Act. The rule is effective upon publication, as permitted by 5 U.S.C. 808. Pursuant to 5 U.S.C. 808(2), OSC finds that good cause exists for this effective date, based on the reasons cited in the preceding paragraph.

List of Subjects in 5 CFR Part 1800

Equal employment opportunity, Government employees, Reporting and recordkeeping requirements, Whistleblowing

For the reasons set forth in the preamble, the Office of Special Counsel is amending title 5, part 1800 as follows:

Part 1800 - Filing of Complaints and Allegations

1. The authority citation for Part 1800 continues to read as follows:

Authority: 5 U.S.C. 1212(e).

2. Replace the statutory citation in § 1800.1(a)(12) that reads “5 U.S.C. 2302(b)(1)” with “5 U.S.C. 2301(b)”.

Dated: December 16, 2002.
Elaine D. Kaplan,
Special Counsel.

[FR Doc. 02-32375 Filed 12-23-02; 8:45 am]

BILLING CODE 7405-01-S